DEPARTMENT OF COMMERCE

International Trade Administration

(A-351-840)

Postponement of Preliminary Determination of Antidumping Duty Investigation: Certain Orange Juice from Brazil

AGENCY: Import Administration, International Trade Administration, Department of Commerce.

SUMMARY: The Department of Commerce is postponing the preliminary determination in the antidumping duty investigation of certain orange juice from Brazil from June 27, 2005, until no later than August 16, 2005. This postponement is made pursuant to section 733(c)(1)(A) of the Tariff Act of 1930, as amended (the Act).

EFFECTIVE DATE: June 13, 2005.

FOR FURTHER INFORMATION CONTACT: Elizabeth Eastwood or Jill Pollack at (202) 482-3874 or (202) 482-4593, respectively, Import Administration, International Trade Administration, U.S. Department of Commerce, 14th Street and Constitution Avenue, N.W., Washington D.C. 20230.

SUPPLEMENTARY INFORMATION:

Postponement of Due Date for Preliminary Determination

On February 7, 2005, the Department initiated an antidumping duty investigation of imports of certain orange juice from Brazil. See Notice of Inititation of Antidumping Duty Investigation: Certain Orange Juice from Brazil, 70 FR 7233 (Feb. 11, 2005). The notice of initiation stated that we would issue our preliminary determination no later than 140 days after the date of initiation. See Id. Currently, the preliminary determination in this investigation is due on June 27, 2005.

On June 2, 2005, the petitioners made a timely request pursuant to 19 CFR 351.205(e) for a 50-day postponement, pursuant to section 733(c)(1)(A) of the Act. The petitioners stated that a postponement of this preliminary determination is necessary in order to permit the Department and the petitioners to fully analyze the information that has been submitted in this investigation and to analyze cost information that will be submitted shortly. The petitioners also noted that the postponement will permit the Department to seek additional information from respondents prior to the preliminary determination.

Under section 733(c)(1)(A) of the Act, if the petitioner makes a timely request for an extension of the period within which the preliminary determination must be made under subsection (b)(1), then the Department may postpone making the preliminary determination under subsection (b)(1) until not later than the 190th day after the date on which the administering authority initiated the investigation. Therefore, for the reasons identified by the petitioners and because there are no compelling reasons to deny the request, the Department is postponing the preliminary determination in this investigation until August 16, 2005, which is 190 days from the date on which the Department initiated this investigation.

This notice is issued and published pursuant to section 733(c)(2) of the Act and 19 CFR 351.205(f).

Dated: June 7, 2005.
Joseph A. Spetrini,
Acting Assistant Secretary for Import Administration.

[FR Doc. 05-11652 Filed 6-10-05; 8:45 am]

BILLING CODE 3510-DS-S